DEPARTMENT OF ENERGY

Federal Energy Regulatory Commission

[Project Nos. 5760-015 and 5762-009]

LaChute Hydro Company, Inc.; LaChute Hydro Company, LLC; Notice of Transfer of Exemptions

1. By letter filed April 24, 2015,¹ William B. Conway, Jr., Counsel for Enel Green Power North America, Inc. (EGPNA),² informed the Commission that the exemptions from licensing for the Upper LaChute River Project, FERC No. 5760 and the Lower LaChute River Project, FERC No. 5762, reinstated November 15, 1984,³ have been transferred to LaChute Hydro Company, LLC, an affiliate of Enel Green Power. The projects are located on the LaChute River in Essex County, New York. The transfer of an exemption does not require Commission approval.

¹ Seventeen other exempted projects which are to be transferred were included in the April 24, 2015 letter. These exemptions will be handled under separate proceedings.

² Enel Green Power North America, Inc. is a wholly owned subsidiary of Enel Green Power. Enel Green Power is a well-capitalized publicly traded company.

³ 29 FERC ¶ 61,174, Order Reinstating Exemptions and Denying Applications for Preliminary Permit and License (1984).

2. LaChute Hydro Company, LLC is now the exemptee of the Upper LaChute River Project, FERC No. 5760 and the Lower LaChute River Project, FERC No. 5762. All correspondence should be forwarded to: LaChute Hydro Company, LLC, c/o Enel Green Power North America, Inc., Attn: General Counsel, 1 Tech Drive, Suite 220, Andover, MA 01810.

Dated: May 19, 2015.
Kimberly D. Bose,
Secretary.

[FR Doc. 2015-12606 Filed 5-22-15; 8:45 am]

BILLING CODE 6717-01-P